DEPARTMENT OF TRANSPORTATION

Federal Railroad Administration

[Docket No. FRA-2023-0002-N-11]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) abstracted below to the Office of Management and Budget (OMB) for review and comment. The ICR describes the information collection and its expected burden. On March 24, 2023, FRA published a notice providing a 60-day period for public comment on the ICR.

DATES: Interested persons are invited to submit comments on or before July 21, 2023.

ADDRESSES: Written comments and recommendations for the proposed ICR should be sent within 30 days of publication of this notice to www.reginfo.gov/public/do/PRAMain. Find the particular ICR by selecting “Currently under Review—Open for Public Comments” or by using the search function.

FOR FURTHER INFORMATION CONTACT: Ms. Joanne Swafford, Information Collection Clearance Officer, at email: joanne.swafford@dot.gov or telephone: (757) 897-9908 or arlette.mussington@dot.gov or telephone: (571) 609-1285.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On March 24, 2023, FRA published a 60-day notice in the Federal Register soliciting public comment on the ICR for which it is now seeking OMB approval. See 88 FR 17919. FRA has received one comment related to the proposed collection of information. This commenter expressed concerns about FRA's estimated paperwork burdens with respect to the Risk Reduction Program (RRP), but did not articulate in detail which burdens were of concern. While FRA notes this feedback, FRA's stakeholder-informed process re-evaluates the estimated paperwork burdens periodically to ensure accuracy and FRA's subject matter experts also analyze the updated data to determine accurate estimates.

Before OMB decides whether to approve this proposed collection of information, it must provide 30-days' notice for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICR regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Risk Reduction Program.

OMB Control Number: 2130-0610.

Abstract: In 2020, FRA issued a final rule ¹ that requires each Class I freight railroad and each freight railroad with inadequate safety performance (ISP) to develop and implement a RRP to improve the safety of its operations. RRP is a comprehensive, system-oriented approach to safety that determines a railroad operation's level of risk by identifying and analyzing applicable hazards, and develops plans to mitigate, if not eliminate, that risk.

¹ 85 FR 9262 (Feb. 18, 2020).

The information collected under this regulation will be used by railroads, and FRA, to improve safety through structured, proactive processes that systematically evaluate railroad safety hazards on their systems and manage the risks associated with those hazards to help reduce the number and rates of railroad accidents/incidents, injuries, and fatalities. Each railroad has flexibility to tailor an RRP to its specific railroad operations. Each railroad must implement its RRP under a written, FRA-approved RRP plan and conduct an annual internal assessment of its RRP, with FRA also auditing railroads' RRPs.

The primary reason for the reduction in the estimated paperwork burden is the expected decrease in the number of responses. Specifically, all Class I freight railroads have already submitted their RRP plans, leading to a decrease in the overall PRA burden, resulting in no anticipated submissions under certain regulatory sections.

As a result of the merger between the Canadian Pacific and Kansas City Southern railroads, Class I the respondent universe was reduced from seven to six Class I railroads. While the individual burden remains the same, for transparency, the burden table is being re-published in this 30-day notice to illustrate the updates made.

Type of Request: Extension without change (with changes in estimates) of a currently approved collection.

Affected Public: Businesses.

Form(s): N/A.

Respondent Universe: 6 Class I railroads and 15 Class II or Class III freight railroads demonstrating inadequate safety performance.

Frequency of Submission: On occasion.

Reporting Burden:

CFR section | Respondent universe | Total annual responses | Average time per responses | Total annual burden hours | Total cost equivalent in U.S. dollar
|  | (A) | (B) | (C = A * B) | (D = C * wage rates)
271.13(c)—Determination of inadequate safety performance (ISP)—Qualitative assessment—Notice to employees of possible ISP identification by FRA | 15 railroads | 5.00 notices | 3 hours | 15.00 | $1,168.65
—(i)Employee confidential comments to FRA regarding RR possible ISP identification | 125 employees | 5.00 comments | 30 minutes | 2.50 | 194.78
—(ii)RR Documentation to FRA refuting possible ISP identification | 15 railroads | 5.00 documents | 8 hours | 40.00 | 3,116.40
—(f) and (g) Petition for reconsideration of ISP determination and petition to discontinue compliance with this part | 15 railroads | 0.67 petition | 16 hours | 10.72 | 835.20
271.101—Risk Reduction Programs (RRPs)—Class I railroads | The estimated paperwork burden for this regulatory requirement is covered under § 271.103, 271.105, 271.107, 271.109, and 271.111.
271.103—RRP hazard management program (HMPs) Class I | 6 railroads | 2.33 HMPs analyses | 3,360 hours | 7,828.80 | 609,941.81
271.105—RRP safety performance evaluation (SPEs): evaluation/assessments—Class I | 6 railroads 6 railroads | 2.33 SPEs evaluation 2.33 assessments | 147 hours 1,060 hours | 342.51 2,470.15 | 26,684.95 192,449.39
271.107—Safety Outreach—communications/reporting to senior management—Class I | 6 railroads 6 railroads | 44,333.00 communications 28.00 communications | 1 hour 30 minutes | 44,333.00 14.00 | 2,636,040.18 1,090.74
271.109—Technology analysis and technology implementation plans—Class I | 6 railroads | 2.33 reports | 10 hours | 23.30 | 1,815.30
271.111—RRP implementation training—programs/training. employees/records.—Class I | 6 railroads | 1,400.00 records of trained employees | 3 minutes | 70.00 | 5,453.70
271.113—Involvement of RR employees—Class I | The estimated paperwork burden for this regulatory requirement is covered under § 271.401 and 271.405.
271.101(c)—Communication by Class I that host passenger train services with RRs subject to FRA System Safety Program Requirements | 6 railroads | 40.00 communications/consultations | 2 hours | 80.00 | 6,232.80
—(d) Identification/communication w/entities performing/utilizing significant safety-related services—Class I | 6 railroads | 212.00 communications/consultations | 1 hour | 212.00 | 16,516.92
—RR Identification/further communication with contractors performing/utilizing significant safety related services—Class I | 6 railroads | 1,488.00 communications/consultations | 1 hour | 1,488.00 | 115,930.08
271.101(a)—Risk Reduction Programs (RRPs)—ISP | The estimated paperwork burden for this regulatory requirement is covered under § 271.103, 271.105, 271.107, 271.109, and 271.111.
271.103—RRP hazard management program (HMPs) ISP | 15 railroads | 5.00 HMPs | 240 hours | 1,200.00 | 93,492.00
271.105—RRP safety performance evaluation (SPEs): survey/evaluation—ISP | 15 railroads 15 railroads | 5.00 surveys 5.00 SPEs | 15 hours 51 hours | 73.65 255.55 | 5,738.07 19,909.90
271.107—Safety Outreach—communications/reporting to management—ISP | 15 railroads 15 railroads | 5.00 communications 5.00 reports | 1 hour 3 hours | 5.00 15.00 | 297.30 1,168.65
271.109—Technology analysis and technology implementation plans—ISP | 15 railroads | 5.00 plans | 5 hours | 25.00 | 1,947.75
271.111—RRP implementation training—Records ISP RRs (Note: The associated burdens related to training were appropriately calculated as economic costs of the regulatory requirement.) | 15 railroads | 50.00 records of trained employees | 3 minutes | 2.50 | 194.78
271.113—Involvement of RR employees | The estimated paperwork burden for this regulatory requirement is covered under subparts B and E of part 271.
271.101(d)—ISPs—Identification/communication w/entities performing significant safety-related services | 15 railroads | 5.00 communications/consultations | 2 hours | 10.00 | 779.10
271.201/203—Written risk reduction program plans (RRP plans)—Adoption and implementation of RRP plans—Class I | The PRA burden associated with this requirement for Class I railroads has been completed.
—Written RRP plans—ISP | 15 railroads | 5.00 RRP plans | 96 hours | 480.00 | 37,396.80
271.207—RR Good faith consultation w/directly affected employees—Class I | The PRA burden associated with this requirement for Class I railroads has been completed.
—RR Notification to non-represented employees of consultation meeting—Class I | The PRA burden associated with this requirement for Class I railroads has been completed.
—RR Good faith consultations/notices: ISP | 15 railroads | 5.00 consults/notices | 20 hours | 100.00 | 7,791.00
(d)—Submission of detailed consultation statement along w/RRP plan by Class I | The PRA burden associated with this requirement for Class I railroads has been completed.
—Submission of detailed consultation statement along w/RRP plan by ISPs (Burden for plan copies included) | 15 railroads | 5.00 consults/statements | 40 hours | 200.00 | 15,582.00
—Copy of RRP Plan—Class I | The PRA burden associated with this requirement for Class I railroads has been completed.
—Consultation Statement to Service List Individuals—Class I | The PRA burden associated with this requirement for Class I railroads has been completed.
—Statements from directly affected employees—Class I railroads | The PRA burden associated with this requirement for Class I railroads has been completed.
—Statements from directly affected employees—ISP | 15 railroads | 12.00 statements | 1 hour | 12.00 | 934.92
271.209—Substantive amendments to RRP plan—Class I | 6 railroads | 1.00 amended written plan | 8 hours | 8.00 | 623.28
—Substantive amendments to RRP plan—ISP railroads | 15 railroads | 0.67 amended written plan | 8 hours | 5.36 | 417.60
271.301—Filing of RRP plan w/FRA—Class I | The PRA burden associated with this requirement for Class I RRs has been completed.
—Filing of RRP plan w/FRA—ISP railroads | 15 railroads | 5.00 filed plans | 2 hours | 10.00 | 779.10
—Class I RR corrected RRP plan | The PRA burden associated with this requirement for Class I railroads has been completed.
—FRA requested Class I consultation with directly affected employees regarding substantive corrections/changes to RRP plan | The PRA burden associated with this requirement for Class I railroads has been completed.
—ISP railroad corrected RRP plan | 15 railroads | 1.00 RRP plan | 2 hours | 2.00 | 155.82
—FRA requested ISP railroad further consultation with directly affected employees regarding substantive amendment to RRP plan | 15 railroads | 1.00 consult/statement | 1 hour | 1.00 | 77.91
271.303—Amendments consultation w/directly affected employees on substantive amendments to RRP plan—Class I + ISP | 21 railroads (Class I + ISP) | 2.00 consults | 1 hour | 2.00 | 155.82
—Employee statement to FRA on railroad RRP plan substantive amendment where agreement could not be reached Class I + ISP | 21 railroads (Class I + ISP) | 2.00 employee statements | 30 minutes | 1.00 | 77.91
271.303—Filed amended RRP plan—Class I railroads | 6 railroads | 1.00 plan | 30 minutes | 0.50 | 38.96
—Filed amended RRP plan—ISP | 15 railroads | 0.67 plan | 30 minutes | 0.34 | 26.49
—Amended RRP plan disapproved by FRA & requested correction—Class I and ISPs | 21 railroads (Class I + ISP) | 1.00 corrected RRP plan | 2 hours | 2.00 | 155.82
271.307—Retention of RRP plans—Copies of RRP Plan/Amendments by railroad at system/division headquarters —Class I + ISP | 21 railroads (Class I + ISP) | 2.00 plan copies | 10 minutes | 0.33 | 25.71
217.401/403—Annual internal assessment/improvement plans—Class I | 6 railroads | 7.00 assessments/improvement plans | 120 hours | 840.00 | 65,444.40
—Annual internal assessment/improvement plans—ISP | 15 railroads | 5.00 assessments/improvement plans | 32 hours | 160.00 | 12,465.60
271.405—Copy of Internal assessment to FRA—Class I | 6 railroads | 7.00 reports | 8 hours | 56.00 | 4,362.96
—Copy of Internal assessment report to FRA—ISP | 15 railroads | 5.00 reports | 2 hours | 10.00 | 779.10
271.501/.503—External audits—Response to FRA's written notice (Note: The associated burdens related to audit were appropriately calculated as economic costs of the regulatory requirement.) | 21 railroads | 7.33 responses | 4 hours | 29.32 | 2,284.32
Appendix A—Request by FRA for additional information/documents to determine whether railroad has met good faith and best efforts consultation requirements of section 271.207—Class I | The PRA burden associated with this requirement for Class I railroads has been completed.
—Further railroad consultation w/employees after determination by FRA that railroad did not use good faith/best efforts—Class I | The PRA burden associated with this requirement for Class I railroads has been completed.
—Meeting to discuss administrative details of consultation process during the time between initial meeting and applicability date—Class I s | The PRA burden associated with this requirement for Class I railroads has been completed.
—Meeting to discuss administrative details of consultation process during the time between initial meeting and applicability date—ISP | 15 railroads | 7.00 meetings/consults | 1 hour | 7.00 | 545.37
—Notification to non-represented employees of good faith consultation process -ISP | 15 railroads | 600.00 notices | 15 minutes | 150.00 | 11,686.50
—Draft RRP plan proposal to employees—ISP | 15 railroads | 20.00 proposals/copies | 2 hours | 40.00 | 3,116.40
—Employee comments on RRP plan draft proposal—ISP RRs | 2,000 employees | 60.00 comments | 1 hour | 60.00 | 4,674.60
Appendix B—Request to FRA for electronic submission or FRA review of written materials | FRA anticipates zero railroad submissions during this 3-year ICR period.
Totals | 21 railroads | 48,374 responses | N/A | 60,694 | 3,910,597

Total Estimated Annual Responses: 48,374.

Total Estimated Annual Burden: 60,694.

Total Estimated Annual Burden Hour Dollar Cost Equivalent: $3,910,597.

FRA informs all interested parties that it may not conduct or sponsor, and a respondent is not required to respond to, a collection of information that does not display a currently valid OMB control number.

(Authority: 44 U.S.C. 3501-3520)

Brett A. Jortland,
Deputy Chief Counsel.

[FR Doc. 2023-13133 Filed 6-20-23; 8:45 am]

BILLING CODE 4910-06-P